DEPARTMENT OF DEFENSE

Office of the Secretary

[Transmittal No. 23-0N]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0N.

Dated: October 17, 2024.
Aaron T. Siegel,
Alternate OSD Federal Register Liaison Officer, Department of Defense.

BILLING CODE 6001-FR-P

BILLING CODE 6001-FR-C

Transmittal No. 23-0N

Report of Enhancement or Upgrade of Sensitivity of Technology or Capability (Sec. 36(B)(5)(C), AECA)

(i) Purchaser: Taipei Cultural and Economic Representative Office (TECRO) in the United States

(ii) Sec. 36(b)(1), AECA Transmittal No.: 19-50

Date: August 20, 2019

Military Department: Air Force

(iii) Description: On August 20, 2019, Congress was notified by Congressional certification transmittal number 19-50 of the possible sale, under Section 36(b)(1) of the Arms Export Control Act, of sixty-six (66) F-16C/D Block 70 aircraft; seventy-five (75) F110 General Electric Engines (includes 9 spares); seventy-five (75) Link-16 Systems (includes 9 spares); seventy-five (75) Improved Programmable Display Generators (iPDG) (includes 9 spares); seventy-five (75) APG-83 Active Electronically Scanned Array (AESA) Radars (includes 9 spares); seventy-five (75) Modular Mission Computers 7000AH (includes 9 spares); seventy-five (75) LN-260 Embedded GPS/INS (includes 9 spares); seventy-five (75) M61 Vulcan 20mm Guns (includes 9 spares); one-hundred thirty-eight (138) LAU-129 Multipurpose Launchers; six (6) FMU-139D/B Fuze for Guided Bombs; six (6) FMU-139D/B Inert Fuze for Guided Bombs; six (6) FMU 152 Fuze for Guided Bombs: six (6) MK-82 Filled Inert Bombs for Guided Bombs; and three (3) KMU-572 Joint Direct Attack Munition (JDAM) Tail Kits, GBU-38/54. Also included are seventy-five (75) AN/ALE-47 Countermeasure Dispensers (includes 9 spares); one-hundred twenty (120) ALE-50 towed decoy or equivalent; seventy-five (75) APX-126 Advanced Identification Friend or Foe (includes 9 spares); seventy five (75) AN/ALQ-211 A(V)4 Airborne Integrated Defensive Electronic Warfare Suite (AIDEWS) or equivalent (includes 9 spares); EW Line Replaceable Unit (LRU) and Standard Electronic Module (SEM) spares; one hundred fifty (150) ARC-238 radios (includes 18 spares); Secure Communications and Cryptographic Appliques including seventy-three (73) KIV-78 cryptographic COMSEC devices, and ten (10) AN/PYQ-10 Simple Key Loaders (SKLs) for COMSEC; three (3) Joint Mission Planning Systems (JMPS); twenty-seven (27) Joint Helmet Mounted Cueing Systems (JHMCS) II with Night Vision Device (NVD) compatibility or Scorpion Hybrid Optical-based Inertial Tracker (HOblT) helmet mounted cueing system with NVD compatibility; seventy (70) NVDs; six (6) NVD spare image intensifier tubes; Cartridge Actuated Devices/Propellant Actuated Devices (CAD/PAD); cartridges; chaff; flares; three (3) each DSU-38A/B Precision Laser Guidance Sensor (PLGS) for GBU-54 Laser Joint Direct Attack Munition (LJDAM) integration; PGU-28A/B 20mm ammunition; telemetry units for integration and test; bomb components; twenty (20) ground debriefing stations; Electronic Combat International Security Assistance Program (ECISAP) support including EW database and Mission Data File (MDF) development (classified/unclassified); communications equipment; classified/unclassified spares, repair, support equipment, test equipment, software delivery/support, personnel training, training equipment, flight/tactics manuals, publications and technical documentation; bomb racks; Organizational, Intermediate and Depot level tooling; Pilot Life Support Equipment (PLSE); Alternate Mission Equipment (AME); ground training devices (including flight and maintenance simulators); containers; development, integration, test and engineering, technical and logistical support of munitions; aircraft ferry; studies and surveys; construction services; U.S. Government and contractor engineering, technical and logistical support services; and other related elements of logistics, program and sustainment support. The estimated total cost was $8.0 billion. Major Defense Equipment (MDE) constituted $5.1 billion of this total.

On April 21, 2021, Congress was notified by Congressional certification transmittal number 21-0E of the addition of fifty-seven (57) Sniper Advanced Targeting Pods (ATPs) (AN/AAQ-33) (MDE). The following non-MDE items were also included: Infrared Search and Track (IRST) pods (IRST International); IRST and Sniper ATP shipping containers; pylons; spare parts; repair and return; publications and technical documentation; software support; integration and test support; U.S. Government and Contractor engineering, technical and logistics support; and additional familiarization training. Additionally, this transmittal amended the original CN's reference to a specific electronic warfare system, to a successfully engineered and tested future Electronic Warfare (EW) Suite, integrated on the F-16V Block 70 aircraft. The total cost of the new MDE articles was $154.33 million, and the total cost of the new non-MDE articles was $307.52 million. The total notified cost of MDE did not increase, and the total notified case value remained $8.0 billion.

This transmittal reports the addition of the following MDE items: eighty-six (86) Multifunctional Information Distribution Systems with Low Volume Terminals (MIDS-LVTs); eighty-six (86) LAU-129 Multi-purpose Launchers; seven (7) Embedded Global Positioning Systems/Inertial Navigation Systems (GPS/INS) (EGI) devices with Selective Availability Anti-Spoofing Module (SAASM) or M-Code; and the option to replace up to two (2) of the previously notified LN-260 EGIs with EGIs with M-Code. The following non-MDE items will also be included: KY-58 narrowband/wideband COMSEC devices and Computer Program Identification Numbers (CPINs) (not identified in the original notification), in addition to Low Volume Terminal (LVT) Cryptographic Modules (LCMs), and additional AN/PYQ-10 SKLs and helmet-mounted cueing systems. The total estimated value of the additional items is $56.3 million. The estimated total MDE value remains $5.1 billion, and the estimated total case value remains $8.0 billion.

(iv) Significance: This notification is being provided because the additional MDE items were not enumerated in the original notification. The inclusion of this MDE represents an increase in capability over what was previously notified. The proposed sale will improve the recipient's ability to operate its fleet of F-16 C/D Block 70 aircraft.

(v) Justification: This proposed sale is consistent with U.S. law and policy as expressed in Title 22 U.S.C. 3301 (Public Law 96-8). This proposed sale serves U.S. national, economic, and security interests by supporting the recipient's continuing efforts to modernize its armed forces and to maintain a credible defensive capability. It will also help improve the security of the recipient and assist in maintaining political stability, military balance, and economic progress in the region.

(vi) Sensitivity of Technology:

The Multifunctional Information Distribution System with Low Volume Terminal (MIDS-LVT) is an advanced Link-16 command, control, communications, and intelligence (C3I) system incorporating high-capacity, jam-resistant, digital communication links for exchange of near real-time tactical information, including both data and voice, among air, ground, and sea elements. MIDS-LVT is intended to support key theater functions such as surveillance, identification, air control, weapons engagement coordination, and direction for all Services and allied forces. LVT Cryptographic Modules (LCMs) will also be included in this potential sale.

The Embedded Global Positioning System/Inertial Navigation System (GPS/INS) (EGI) with Selective Availability Anti-Spoofing Module (SAASM)—or M-Code receiver when available—and Precise Positioning Service (PPS) is a self-contained navigation system that provides information on the following: acceleration, velocity, position, attitude, platform azimuth, magnetic and true heading, altitude, body angular rates, time tags, and coordinated universal time (UTC) synchronized time. SAASM or M-Code enables the GPS receiver access to the encrypted P(Y) code or M-code signal, providing protection against active spoofing attacks.

The KY-58 is a secure voice module primarily used to encrypt radio communication to and from military aircraft and other tactical vehicles.

The Sensitivity of Technology Statement contained in the original notification applies to additional items reported here.

The highest level of classification of defense articles, components, and services included in this potential sale is SECRET.

(vii) Date Report Delivered to Congress: August 3, 2023

[FR Doc. 2024-24494 Filed 10-22-24; 8:45 am]

BILLING CODE 6001-FR-P